DEPARTMENT OF TRANSPORTATION

Office of the Secretary

[Docket No. OST-2008-0244; OMB Control: 2105-0555]

Notice of Request for Renewal of a Previously Approved Collection;Title: Short-term Lending Program Online Application

AGENCY: Office of the Secretary (OST), U.S. Department of Transportation (DOT).

ACTION: Notice and request for comments.

SUMMARY: The Office of the Secretary, Office of Small and Disadvantaged Business Utilization (OSDBU), invite public comments on our intention to request the Office of Management and Budget's (OMB) approval to renew an information collection. The collection involves the use of the “Short-term Lending Online Program Application for a New Loan Guarantee” and the “Application for Loan Guarantee Renewal”. The information collected will be used to determine the applicant's eligibility and is necessary to approve or deny a loan. The collection involves the use of the “Short-term Lending Program Bank Verification Loan Activation Form”; “Bank Verification Extension Request Form”; “Bank Acknowledgement Loan Close-Out Form”; “Guarantee Loan Status Report”; “Pending Loan Status Report”; “Drug-Free Workplace Act Certification for a Grantee Other than an Individual”; “Certification Regarding Lobbying for Contracts, Grants, Loans, and Cooperative Agreements”; “Certification Regarding Debarment, Suspension”. The information to be collected will be used to monitor the administration and performance of the loans guaranteed under the Short-term Lending Program, as well as the Participating Lender's (PL) compliance with the terms established in the Cooperative Agreement between DOT and the PL.

We are required to publish this notice in the Federal Register by the Paperwork Reduction Act of 1995.

DATES: Written comments on this notice should be received by December 9, 2008.

FOR FURTHER INFORMATION CONTACT: Nancy Strine, Manager, Financial Assistance Division, Office of Small and Disadvantaged Business Utilization, Office of the Secretary, U.S. Department of Transportation, 1200 New Jersey Avenue, SE., Room W56-497, Washington, DC 20590. Phone number 202-366-5343, fax number 202-366-1930. Office hours are from 8:30 a.m. to 5 p.m., Monday through Friday, except Federal holidays.

Background: The Short-term Lending Program (STLP) provides up to a 75% guaranteed revolving line of credit for a maximum of $750,000 to finance accounts receivable arising from transportation-related contracts. The primary collateral consists of the proceeds of the transportation-related contracts. These loans are provided through banks that serve as STLP Participating Lenders (PL). The term of the line of credit is for one (1) year, which may be renewed up to a total of five (5) years. A potential STLP participant must submit a guaranteed loan application package, comprised of a loan application, with supporting documentation collected from the checklist on page seven (7) of the application. A current STLP participant may submit a guaranteed loan renewal application package, comprised of an updated loan application, with supporting documentation collected from the checklist on page seven (7) of the application. As part of the requirements for approval as a Lender PL, banks must submit documentation that demonstrates it is a drug-free workplace by executing a Certification of Compliance concerning a drug-free workplace; that no Federal funds will be utilized for lobbying by executing a Certificate Regarding Lobbying in compliance with Section 1352, Title 21, of the U.S. Code; that it is not currently debarred or suspended from participation in a government contract or delinquent on a government debt by submitting a current SBA Form 1624 or its equivalent. The STLP is subject to the requirements of the Federal Credit Reform Act of 1990 (FCRA) that includes certain budgeting and accounting requirements for Federal credit programs. The PL must undertake processes to activate, monitor, service and close- out STLP loans. To fulfill the requirements of FCRA, the PL shall retain all documents, files, books, and records relevant to the administration of an STLP loan and must submit regular reports and required documentation to OSDBU on these processes.

SUPPLEMENTARY INFORMATION: Form: Short-term Lending Program Application for New Loan Guarantee (DOT 2301-1(REV.1): A potential STLP participant must submit a guaranteed loan application package, comprised of a loan application, with supporting documentation. The application may be obtained directly from OSDBU, from a current PL, or online from the agency's Web site currently at http://osdbu.dot.gov/documents/pdf/stlp/stlpapp.pdf.

Respondents: Certified Disadvantaged Business Enterprises (DBEs) and other Certified Small Businesses (8a, women-owned, small disadvantaged, HubZone, veteran owned, and service disabled veteran owned) interested in financing their transportation-related contracts.

Respondents: 100.

Frequency: Once.

Estimated Average Burden per Response: 2 hours.

Estimated Total Annual Burden Hours: 200 hours.

New loan application supporting documentation may include, but is not limited to, the following items:

a. Business, trade or job performance reference letters;

b. DBE or other eligible certification letters;

c. Signed and dated borrower certification that all federal, state and local taxes are current;

d. Business tax returns;

e. Business financial statements;

f. Personal income tax returns;

g. Personal financial statements;

h. Schedule of work in progress;

i. Signed and dated copy of transportation-related contracts to be used as collateral;

j. Business debt schedule;

k. Cash flow projections;

l. Evidence of bonding and insurance.

Respondents: 100.

Frequency: Once.

Estimated Average Burden per Response: 12 hours.

Estimated Total Annual Burden Hours: 1200 hours.

SUPPLEMENTARY INFORMATION: Form: Short-term Lending Program Application for Loan Guarantee Renewal (DOT 2302-1). A current STLP participant may submit a guaranteed loan renewal application package, comprised of an updated loan application, with supporting documentation. The application may be obtained directly from OSDBU, from a current PL, or online from the agency's Web site currently at http://osdbu.dot.gov/documents/pdf/stlp/stlpapp.pdf.

Respondents: 100.

Frequency: Annually, up to five years.

Estimated Average Burden per Response: 8 hours.

Estimated Total Annual Burden Hours: 800 hours.

Application supporting documentation. Supporting documentation may include, but is not limited to, the following items:

a. Current job performance reference letter (within the past 12 months);

b. Evidence of current DBE and/or other eligible certification;

c. Business tax returns for the most recent fiscal year;

d. Business financial statements for the most recent fiscal year;

e. If the business' last fiscal year has been ended longer than 90 days at the time of application, then applicant must submit interim business financial statements to include balance sheet, P&L and updated aging reports of both receivables and payables;

f. Current work in progress schedule or statement;

g. Personal income tax returns;

h. Personal financial statements;

i. Signed and dated copy of transportation-related contracts to be used as collateral;

j. Updated cash flow projections; Respondents: 100.

Frequency: Annually, up to five years.

Estimated Average Burden per Response: 4 hours.

Estimated Total Annual Burden Hours: 400 hours.

SUPPLEMENTARY INFORMATION: Form: Short-term Lending Program Bank Verification Loan Activation Form (DOT F 2303-1). The PL must submit to OSDBU a Loan Activation Form that indicates the date in which the loan has been activated/funded.

Respondents: Participating Lenders that are in the process or have entered into cooperative agreements with DOT's OSDBU under the STLP's governing policies and procedures.

Respondents: 100.

Frequency: Annually, up to five years.

Estimated Average Burden per Response: ½ hour.

Estimated Total Annual Burden Hours: 50 hours.

Form: Short-term Lending Program Bank Verification Extension Request Form(DOT F 2310-1). An extension of the original loan guarantee for a maximum period of ninety (90) days may be requested, in writing, by the PL using the STLP Extension Request Form.

Respondents: 100.

Frequency: Annually.>Estimated Average Burden per Response: ½ hour.

Estimated Total Annual Burden Hours: 50 hours.

Form: Short-term Lending Program Bank Acknowledgement Loan Close-Out Form (DOT F 2304-1). The PL must submit to OSDBU a Loan Close-out Form upon full repayment of the STLP loan, or upon expiration of the loan guarantee.

Respondents: 100.

Frequency: Annually.

Estimated Average Burden per Response: ½ hour.

Estimated Total Annual Burden Hours: 50 hours.

Form: Guarantee Loan Status Report; Pending Loan Status Report. PL must submit each month to OSDBU a status report of pending loans (DOT F 2306-1) and guaranteed loans (DOT F 2305-1) including the previous month's activity for these loans.

Respondents: 100.

Frequency: Monthly.

Estimated Average Burden per Response: 1 hour.

Estimated Total Annual Burden Hours: 1200 hours.

Form: Drug-Free Workplace Act Certification for a Grantee Other than an Individual (DOT F 2307-1) to certify that it is a drug-free workplace by executing a Certification of Compliance concerning a drug-free workplace.

Respondents: 100.

Frequency: Once.

Estimated Average Burden per Response: 15 minutes.

Estimated Total Annual Burden Hours: 25 hours.

Form: Certification Regarding Lobbying for Contracts, Grants, Loans, and Cooperative Agreement (DOT F 2308-1). PL must certify that no Federal funds will be utilized for lobbying by executing a Certificate Regarding Lobbying in compliance with Section 1352, Title 21, of the U.S. Code.

Respondents: 100.

Frequency: Once.

Estimated Average Burden per Response: 15 minutes.

Estimated Total Annual Burden Hours: 25 hours.

Form: Certification Regarding Debarment, Suspension (DOT F 2309-1). The PL must not currently be debarred or suspended from participation in a government contract or delinquent on a government debt by submitting a current SBA Form 1624 or its equivalent.

Respondents: 100.

Frequency: Once.

Estimated Average Burden per Response: 15 minutes.

Estimated Total Annual Burden Hours: 25 hours.

ADDRESSES: You may submit your comments (identified by DOT DMS Docket Number OST-2008-0244) by any of the following methods:

• Federal eRulemaking Portal: Go to http://www.regulations.gov/. Follow the online instructions for submitting comments.

• Agency Web Site: http://dms.dot.gov/. Follow the instructions for submitting comments on the DOT electronic docket site.

• Fax: 1-202-493-2251.

• Mail or Hand Delivery: U.S. Department of Transportation, Dockets Management Facility, 1200 New Jersey Avenue, SE., West Building, Room W12-140, Washington, DC 20590, between 9 a.m. and 5 p.m., Monday through Friday, except Federal Holidays.

Public Comments Invited: You are asked to comment on any aspect of this information collection, including: (1) Whether the proposed collection is necessary for the Office of the Secretary's performance; (2) the accuracy of the estimated burden; (3) ways for the Office of the Secretary to enhance the quality, usefulness, and clarity of the collected information; and (4) ways that the burden could be minimized without reducing the quality of the collected information. The agency will summarize and/or include your comments in the request for OMB's clearance of this information collection.

All responses to this notice will be summarized and included in the request for OMB approval. All comments will also become a matter of public record.

Authority: The Paperwork Reduction Act of 1995; 44 U.S.C. Chapter 35, as amended; and 49 CFR 1.48.

Issued in Washington, DC, on October 2, 2008.
Patricia Lawton,
DOT PRA Officer, Office of the Chief Information Officer.

[FR Doc. E8-24164 Filed 10-9-08; 8:45 am]

BILLING CODE 4910-9X-P